DEPARTMENT OF TRANSPORTATION

Federal Aviation Administration

14 CFR Part 39

[Docket No. FAA-2020-0239; Product Identifier 2018-SW-073-AD]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model EC120B helicopters. This proposed AD was prompted by a report that a changed manufacturing process for the tail rotor blades (TRB) was implemented, affecting the structural characteristics of the blades and generating a new part number for these blades. This proposed AD would require re-identifying each affected TRB having a certain part number and serial number and establishing a life limit for the new part numbers. This AD also prohibits installation of any affected TRB identified with the old part number on any helicopter. The FAA is proposing this AD to address the unsafe condition on these products.

DATES: The FAA must receive comments on this proposed AD by April 27, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N. Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy, Room 6N-321, Fort Worth, TX 76177. For information on the availability of this material at the FAA, call 817-222-5110.

Examining the AD Docket

You may examine the AD docket on the internet at https://www.regulations.gov by searching for and locating Docket No. FAA-2020-0239; or in person at Docket Operations between 9 a.m. and 5 p.m., Monday through Friday, except Federal holidays. The AD docket contains this NPRM, the Mandatory Continuing Airworthiness Information (MCAI), any comments received, and other information. The street address for Docket Operations is listed above. Comments will be available in the AD docket shortly after receipt.

FOR FURTHER INFORMATION CONTACT: Kristi Bradley, Aviation Safety Engineer, Safety Management Section, Rotorcraft Standards Branch, FAA, 10101 Hillwood Pkwy., Fort Worth, TX 76177; telephone 817-222-5485; email Kristin.Bradley@faa.gov.

SUPPLEMENTARY INFORMATION:

Comments Invited

The FAA invites you to send any written relevant data, views, or arguments about this proposal. Send your comments to an address listed under the ADDRESSES section. Include “Docket No. FAA-2020-0239; Product Identifier 2018-SW-073-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The European Union Aviation Safety Agency (previously European Aviation Safety Agency) (EASA), which is the Technical Agent for the Member States of the European Union, has issued EASA AD 2018-0183, dated August 28, 2018 (referred to after this as “the MCAI”), to correct an unsafe condition for all Airbus EC120 B helicopters. EASA advises that a changed manufacturing process for TRBs was implemented, affecting the structural characteristic of the TRBs and generating a new part number for these blades. Because this is a newly established part number, no service life limit currently exists for this part. This EASA AD identifies a service life limit for the new TRB part numbers, which, if not required, might result in TRBs exceeding their service life limit. This condition, if not corrected, could lead to loss of the TRB and subsequent loss of control of the helicopter. The EASA AD also prohibits installation of any affected TRB identified with the old part number on any helicopter and prohibits rework, repair, or modification of any affected part.

You may examine the MCAI in the AD docket on the internet at https://www.regulations.gov by searching for and locating Docket No. FAA-2020-0239.

Related Service Information Under 1 CFR Part 51

Airbus Helicopters has issued Alert Service Bulletin EC120-04A008, dated July 18, 2018 (“ASB EC120-04A008”). This service information describes procedures for re-identifying a TRB with P/N C642A0300103 for certain serial numbers as specified in ASB EC120-04A008.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD because the FAA evaluated all the relevant information and determined the unsafe condition described previously is likely to exist or develop on other products of the same type design.

Proposed Requirements of This NPRM

This proposed AD would require re-identifying each affected TRB with a new part number, establishing a life limit for the new TRB part number, and prohibiting installation of any affected TRB having the old part number.

Costs of Compliance

The FAA estimates that this proposed AD affects 94 helicopters of U.S. registry. The FAA estimates the following costs to comply with this proposed AD:

Estimated Costs for Required Actions *
Labor cost | Parts cost | Cost per product | Cost on U.S. operators
1 work-hour × $85 per hour = $85 | ** $0 | $85 | * $7,990
* The FAA has received no definitive data that would enable providing cost estimates for the additional applicable maintenance instructions specified in this proposed AD.
** The FAA has received no definitive data on the parts cost.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2020-0239; Product Identifier 2018-SW-073-AD.

(a) Comments Due Date

The FAA must receive comments by April 27, 2020.

(b) Affected ADs

None.

(c) Applicability

This AD applies to all Airbus Helicopters Model EC120B helicopters, certificated in any category.

(d) Subject

The Joint Aircraft System/Component (JASC) Code 6410, Tail rotor blades.

(e) Reason

This AD was prompted by a report that a new manufacturing process for the tail rotor blades (TRBs) has been implemented, affecting the structural characteristics of the TRB and generating a new part number (P/N) for these blades. It was determined that a new life limit is needed for the new P/N TRBs. The FAA is issuing this AD to ensure the new P/N TRBs do not exceed their life limit, which could lead to loss of the TRB and subsequent loss of control of the helicopter.

(f) Compliance

Comply with this AD within the compliance times specified, unless already done.

(g) Definition of an Affected Part for Re-identification and Validation of Rework/Repair/Modification

An “affected part” is a TRB having P/N C642A0300103 and a serial number specified in Appendix 4.A. of Airbus Helicopters Alert Service Bulletin EC120-04A008, dated July 18, 2018 (“ASB EC120-04A008”).

(h) Part Replacement (Life Limit Implementation)

Before exceeding 8,500 hours time-in-service (TIS) since first installation on a helicopter: Remove from service each TRB having P/N C642A0300104 or P/N C642A0300105.

(i) Part Re-Identification and Validation of Rework/Repair/Modification

(1) Within 1,000 hours TIS after the effective date of this AD: Re-identify each affected part in accordance with 3.B. of the Accomplishment Instructions of ASB EC120-04A008.

(2) Within 6 months after the effective date of this AD, for each affected part which has been subject to rework, repair, or modification before the re-identification as required by paragraph (i)(1) of this AD, contact the Manager, Safety Management Section, Rotorcraft Standards Branch, FAA, for additional applicable maintenance instructions and, within the compliance time identified in those instructions, accomplish those instructions accordingly.

(j) Parts Installation Prohibition and Rework/Repair/Modification Limitation

(1) As of the effective date of this AD, no person may install a TRB having P/N C642A0300103 and a serial number specified in Appendix 4.A. of ASB EC120-04A008 on any helicopter.

(2) As of the effective date of this AD, no person may accomplish any rework, repair, or modification of an affected part, unless it has been determined that the rework, repair, or modification is FAA-approved for P/N C642A0300105.

(k) Alternative Methods of Compliance (AMOCs)

(1) The Manager, Safety Management Section, Rotorcraft Standards Branch, FAA, may approve AMOCs for this AD. Send your proposal to: Kristi Bradley, Aviation Safety Engineer, Safety Management Section, Rotorcraft Standards Branch, FAA, 10101 Hillwood Pkwy., Fort Worth, TX 76177; telephone 817-222-5485; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(l) Related Information

(1) The subject of this AD is addressed in European Union Aviation Safety Agency (previously European Aviation Safety Agency) (EASA) AD 2018-0183, dated August 28, 2018. This EASA AD may be found in the AD docket on the internet at https://www.regulations.gov by searching for and locating Docket No. FAA-2020-0239.

(2) For service information identified in this AD, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110.

Issued on March 4, 2020.
Gaetano A. Sciortino,
Deputy Director for Strategic Initiatives, Compliance & Airworthiness Division, Aircraft Certification Service.

[FR Doc. 2020-04972 Filed 3-10-20; 8:45 am]

BILLING CODE 4910-13-P